DEPARTMENT OF TRANSPORTATION

Surface Transportation Board

[Docket No. FD 35584]

Southwest Pennsylvania Railroad Company—Acquisition Exemption—Laurel Hill Development Corporation

Southwest Pennsylvania Railroad Company (SPRC), a Class III rail carrier, has filed a verified notice of exemption under 49 CFR 1150.41 to acquire a number of rail lines now owned by Laurel Hill Development Corporation (LHDC) (formerly Fay Penn Industrial Development Corporation (Fay Penn)), a non-operating rail carrier.¹ The lines comprise a total distance of 29.09 miles and extend generally between Everson, Pa. and Broadford, Pa. and between Greene Junction, Pa. and Smithfield, Pa., including Bowest Yard and various branch lines.

¹ In Fay Penn Industrial Development Corporation—Acquisition Exemption—CSXT Transportation, Inc., FD 33051 (STB served Oct. 4, 1996), Fay Penn was authorized to acquire certain rail lines extending between specified points in Pennsylvania, and in Southwest Pennsylvania Railroad Company—Operation Exemption—CSX Transportation, Inc., FD 33051 (Sub-No. 1) (STB served Oct. 4, 1996), SPRC was authorized to operate the lines acquired by Fay Penn and also was authorized to acquire 4 miles of incidental trackage rights. In CSX Transportation, Inc.—Abandonment Exemption—in Fayette and Westmoreland Counties, Pa., AB 55 (Sub-No. 420X) (ICC served Nov. 28, 1994), Fay Penn, successor in interest to Fay-Penn Land Trust, acquired authority as the designee of the Commonwealth of Pennsylvania, along with the Westmoreland County Industrial Development Corporation, to acquire a rail line between specified points in Fayette and Westmoreland Counties, Pa. under the agency's offer of financial assistance procedures. In Southwest Pennsylvania Railroad Company—Lease and Operation Exemption—Lines of Westmoreland County Industrial Development Corporation and Fay-Penn Land Trust, FD 32737 (ICC served July 21, 1995), SPRC was authorized to lease and operate that rail line.

SPRC states that on August 25, 2011, Fay Penn changed its name to LHDC.

The lines are described as follows: (a) 21.67 miles of rail line extending between Rail Valuation Station 4+06.3 in Greene Junction and Rail Valuation Station 1148+43.8 in Smithfield, as shown generally on Valuation Maps V.69.1/S-43a, V.69.11/1 to 6, and V.82.1/1 to 6, in Fayette County, Pa.;(b) 3.28 miles of rail line extending between Rail Valuation Station 1+30 in Broadford and Rail Valuation Station 174+56 at Everson, in Fayette County, Pa.; (c) a portion of the Smithfield & Masontown Branch adjacent to the rail line described in (a) above, in Smithfield, as shown generally as Valuation Map 82.1/S 5-6 and 82.4/1; (d) a 2.26-mile portion of the South West Branch extending between Rail Valuation Station 1926+00 and Rail Valuation Station 2045+45 in Uniontown, as shown on Valuation Maps V. 20.01/37 to 39; (e) a 0.27-mile portion of the South West Branch extending between Rail Valuation Station 2271+39 and Rail Valuation Station 2285+55, in Fairchance, as shown generally on Valuation Map V.20.01/44; (f) a 1.61-mile portion of the Fairchance Branch extending between Rail Valuation Station 2+20 and Rail Valuation Station 87+20, in Fairchance, as shown on Valuation Maps V.20.025/1 & 2; (g) all of the tract or parcel of land and rights-of-way referred to as the Bowest Yard lying and being adjacent to the rail line described in (a) above in Dunbar Township, Fayette County; (h) all tracts or parcels of land and rights-of-way comprising or adjacent to the former CSX Transportation, Inc. (CSXT) Smithfield and Masontown Branch Line connecting with the parcels at Smithfield & Mason Junction near Smithfield extending from the northerly property line of the parcel described in (c) above to State Route 119; and (i) the industrial side track easement located in the Fayette Business Park and connecting to the former CSXT Fairmont, Morgantown & Pittsburgh Subdivision in Georges Township, in Fayette County. SPRC currently operates the rail lines that it seeks to acquire and will continue to provide common carrier service on the lines after their acquisition. SPRC also operates and will continue to operate over 4 miles of incidental trackage rights previously granted by CSXT.

SPRC certifies that its projected annual revenues as a result of the transaction will not exceed those that would qualify it as a Class III rail carrier.

The transaction is expected to be consummated after January 27, 2012, the effective date of the exemption.

If the verified notice contains false or misleading information, the exemption is void ab initio. Petitions to revoke the exemption under 49 U.S.C. 10502(d) may be filed at any time. The filing of a petition to revoke will not automatically stay the effectiveness of the exemption. Petitions for stay must be filed no later than January 20, 2012 (at least 7 days before the exemption becomes effective).

An original and 10 copies of all pleadings, referring to Docket No. FD 35584, must be filed with the Surface Transportation Board, 395 E Street SW., Washington, DC 20423-0001. In addition, a copy of each pleading must be served on Richard R. Wilson, Esq., 518 N. Center Street, Ste. 1, Ebensburg, PA 15931.

Board decisions and notices are available on our Web site at http://www.stb.dot.gov.

Decided: January 9, 2012.
By the Board, Rachel D. Campbell, Director, Office of Proceedings.
Raina S. White,
Clearance Clerk.

[FR Doc. 2012-550 Filed 1-12-12; 8:45 am]

BILLING CODE 4915-01-P